DEPARTMENT OF DEFENSE

Department of the Army; Corps of Engineers

Notice of Availability of the Draft Environmental Impact Statement for the Lake Ralph Hall Regional Water Supply Reservoir Project, Fannin County, TX

AGENCY: Department of the Army, U.S. Army Corps of Engineers, DoD.

ACTION: Notice of availability.

SUMMARY: The U.S. Army Corps of Engineers (USACE) Fort Worth District has prepared a Draft Environmental Impact Statement (EIS) to analyze the direct, indirect and cumulative effects of the construction of the Lake Ralph Hall Regional Water Supply Reservoir Project in Fannin County, TX, proposed by the Upper Trinity Regional Water District (UTRWD). This action requires authorization from USACE under Section 404 of the Clean Water Act for construction and operation of the proposed project. The proposed project is a regional water supply project intended to provide approximately 34,050 acre-feet (AF) per year of new water for 20 water providers, special districts, and municipalities in Denton County and small portions of Dallas, Collin, Grayson, Wise and Cooke counties to the extent that Denton County Customers' service areas extend outside the County. Construction of the reservoir and support facilities would result in permanent direct impacts to waters of the U.S. of approximately 8 acres of wetlands and 384 acres of other waters including streams, impoundments, and ponds. The proposed project pipeline will cross 59 streams with 11,893 lineal feet of temporary impact as well as 0.4 acres of stock tanks.

DATES: Written comments on the Draft EIS will be accepted until November 21, 2018. Oral and/or written comments may also be presented at the Public Hearing.

ADDRESSES: A Public Hearing will be held Thursday, October 25, 2018 starting at 5:30 p.m. at the H.L. Milton Sports Complex, 601 W Mill Street, Ladonia, TX 75449.

FOR FURTHER INFORMATION CONTACT: Chandler J. Peter, EIS Project Manager, at 817-886-1731 or chandler.j.peter@usace.army.mil.

SUPPLEMENTARY INFORMATION: The Draft EIS was prepared in accordance with the National Environmental Policy Act (NEPA) of 1969, as amended, and the Corps' regulations for NEPA implementation (33 Code of Federal Regulations [CFR] parts 230 and 325, Appendices B and C). The Corps, Fort Worth, Regulatory Branch is the lead federal agency responsible for the Draft EIS and information contained in the EIS serves as the basis for a decision regarding issuance of a Section 404 permit. It also provides information for federal, state and local agencies having jurisdictional responsibility for affected resources.

The purpose of the Draft EIS is to provide decision-makers and the public with information pertaining to the Proposed Action and alternatives, and to disclose environmental impacts and identify mitigation measures to reduce impacts. UTRWD proposes to construct Lake Ralph Hall (including principal and emergency spillways, dam, and reservoir) with a conservation pool storage capacity of approximately 160,235 AF. Construction of a new raw water pipeline from the proposed Lake Ralph Hall to the Tom Harpool Water Treatment Plant is also proposed, as well as a new balancing reservoir and pump station.

The purpose for the project is to provide additional firm annual yield to the 20 water providers and communities to address anticipated water demands associated with projected growth.

In addition to the Proposed Action, the Draft EIS analyzes the No Action Alternative. Other alternatives were evaluated but not carried forward for detailed consideration, including water supplied from five new (undeveloped) reservoirs; securing supplies from other existing sources, Oklahoma, additional Dallas Water Utilities Supply, the Gulf of Mexico, Cypress Creek Basin, groundwater imports and precipitation enhancement. In addition, alternative dam alignments and conservation pool sizes were considered.

The U.S. Environmental Protection Agency Region VI, U.S. Fish and Wildlife Service, U.S. Forest Service, Texas Commission on Environmental Quality, Texas Parks and Wildlife Department and the Texas Historical Commission have participated as cooperating agencies in the formulation of the Draft EIS.

Copies of the Draft EIS will also be available for review at:

1. Ladonia City Hall, 100 Center Plaza, Ladonia, TX 75449.

2. Wolfe City Public Library, 102 TX-11, Wolfe City, TX 75496.

3. Commerce Public Library, 1210 Park Street, Commerce, TX 75428.

4. Honey Grove Library, 500 N 6th Street, Honey Grove, TX 75446.

5. Bonham Public Library, 305 E 5th Street, Bonham, TX 75418.

6. Greenville Public Library, 1 Lou Finney Lane, Greenville, TX 75401

7. Upper Trinity Regional Water District, 900 North Kealy Street, Lewisville, TX 75067.

8. U.S. Army Corps of Engineers, Fort Worth Regulatory Office, 819 Taylor Street, Fort Worth, TX 76102.

Send written comments regarding the Proposed Action and Draft EIS to Chandler J. Peter, EIS Project Manager, U.S. Army Corps of Engineers, Fort Worth District—Regulatory Division, 819 Taylor Street, Room 3A37, P.O. Box 17300, Fort Worth, Texas 76102 or via email: chandler.j.peter@usace.army.mil. Requests to be placed on or removed from a mailing list for the Final EIS should also be sent to this address.

Electronic copies of the Draft EIS may be obtained from the Fort Worth Regulatory Division or its website at: https://www.swf.usace.army.mil/Missions/Regulatory/Permitting/Proposed-Lake-Ralph-Hall/.

Stephen L. Brooks,
Chief, Regulatory Division, Fort Worth District.

[FR Doc. 2018-21538 Filed 10-4-18; 8:45 am]

BILLING CODE 3720-58-P